ENVIRONMENTAL PROTECTION AGENCY

[EPA-R05-OAR-2007-0520; FRL-8574-9]

Adequacy Status of the Indiana and Ohio Portions of the Cincinnati-Hamilton, Ohio/Kentucky/Indiana, Submitted 8-Hour Ozone Attainment Demonstration for Transportation Conformity Purposes; Correction

AGENCY: Environmental Protection Agency (EPA).

ACTION: Notice of adequacy; correction.

SUMMARY: This document corrects an error in the table posted in the April 23, 2008, notice of adequacy of the motor vehicle emissions budgets (MVEB) for the Indiana and Ohio portions of the Cincinnati-Hamilton OH/KY/IN area. The MVEBs were submitted by Indiana as part of the 8-hour ozone attainment demonstration for the area. The MVEB table in that notice conflicts with the actual MVEBs. EPA, therefore, is correcting the erroneous table.

DATES: Effective Date: This correction is effective on June 3, 2008.

FOR FURTHER INFORMATION CONTACT: Anthony Maietta, Life Scientist, Criteria Pollutant Section, Air Programs Branch (AR-18J), Environmental Protection Agency, Region 5, 77 West Jackson Boulevard, Chicago, Illinois 60604, (312) 353-8777, maietta.anthony@epa.gov.

SUPPLEMENTARY INFORMATION: EPA published a notice of adequacy on April 23, 2008, (73 FR 21932) which finds the 2008 MVEBs for volatile organic compounds (VOC) and oxides of nitrogen (NOX) for the Indiana and Ohio portions of the Cincinnati-Hamilton OH/KY/IN area to be adequate for transportation conformity purposes. In this notice, EPA erroneously identified the 2008 MVEBs as 72.16 tons per day (tpd) for VOC and 18.99 tpd for NOX.

The table in that notice conflicts with the actual MVEBs. The actual 2008 MVEBs are 46.00 tpd for VOC and 91.36 tpd for NOX. Therefore, the table is being corrected to refer to the correct budget amounts.

Correction

In the notice of adequacy published in the Federal Register on April 23, 2008, (73 FR 21932), on page 21932, in second column, the table:

| 2008 MVEB (tpd)
VOC | 72.16
NOX | 18.99

is corrected to read:

| 2008 MVEB (tpd)
VOC | 46.00
NOX | 91.36

Dated: May 20, 2008.
Richard C. Karl,
Acting Regional Administrator, Region 5.

[FR Doc. E8-12373 Filed 6-2-08; 8:45 am]

BILLING CODE 6560-50-P